DEPARTMENT OF COMMERCE

Submission for OMB Review; Comment Request

The Department of Commerce will submit to the Office of Management and Budget (OMB) for clearance the following proposal for collection of information under the provisions of the Paperwork Reduction Act (44 U.S.C. chapter 35).

Agency: Bureau of Industry and Security (BIS).

Title: Import, End-User, and Delivery Verification Certificates.

OMB Control Number: 0694-0093.

Form Number(s): BIS-645P, BIS-647P.

Type of Request: Regular submission.

Burden Hours: 2,124.

Number of Respondents: 7,862.

Average Hours per Response: 15 minutes for certificates, and 30 minutes for certificate change notifications and exception to procedures.

Needs and Uses: This collection of information provides the certification of the overseas importer to the U.S. Government that specific commodities will be imported from the U.S. and will not be reexported, except in accordance with U.S. export regulations.

Affected Public: Business or other for-profit organizations.

Frequency: On occasion.

Respondent's Obligation: Required to obtain benefits.

OMB Desk Officer: Jasmeet Seehra, (202) 395-3123.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to Jasmeet Seehra, OMB Desk Officer, email to Jasmeet_K._Seehra@omb.eop.gov, or fax to (202) 395-5167.

Dated: November 18, 2011.
Gwellnar Banks,
Management Analyst, Office of the Chief Information Officer.

[FR Doc. 2011-30324 Filed 11-23-11; 8:45 am]

BILLING CODE 3510-33-P